DEPARTMENT OF TRANSPORTATION

Federal Highway Administration

Environmental Impact Statement: Salt Lake County, UT

AGENCY: Federal Highway Administration (FHWA), USDOT.

ACTION: Notice of Intent.

SUMMARY: The FHWA is issuing this notice to advise the public that an Environmental Impact Statement (EIS) will be prepared for a proposed transportation improvement project in Salt Lake County, Utah.

FOR FURTHER INFORMATION CONTACT: Edward Woolford, Environmental Program Manager, Federal Highway Administration, 2520 West 4700 South, Suite 9A, Salt Lake City, UT 84118, telephone (801) 963-0182, e-mail Edward.Woolford@dot.gov. The Utah Department of Transportation (UDOT) contact is Brandon Weston, Project Manager, 2010 South 2760 West, Salt Lake City, UT 84104, telephone (801) 887-3470, e-mail brandonweston@utah.gov.

SUPPLEMENTARY INFORMATION: The FHWA, in cooperation with UDOT, will prepare an EIS for a proposal to address projected transportation demand and safety on Bangerter Highway in the area of 600 West in the city of Draper in Salt Lake County. The EIS will evaluate methods to reduce congestion and improve safety on the exit ramps from Interstate 15 (I-15) onto Bangerter Highway and at the intersection of 200 West and Bangerter Highway in Draper. Other transportation needs and economic development opportunities will be considered in the evaluation. The need for improvements in this project area is identified in the regional transportation plan developed by the local metropolitan planning organization, the Wasatch Front Regional Council (WFRC).

Improvements are necessary to meet the projected travel demand in 2030 in the project area and to improve safety and regional mobility. Alternatives under consideration include (1) taking no action (no-build), (2) using access control and transportation system management/travel demand management to improve the efficiency of the existing network, and (3) build alternatives. A multi-modal evaluation of transportation improvements will be considered. Transportation build alternatives to be studied include but are not limited to (1) a new interchange or intersection on Bangerter Highway in the area of 600 West, (2) improvements to the existing roadway configuration without constructing a new interchange or intersection, (3) transit, (4) combinations of any of the above, and (5) other feasible alternatives identified during the scoping process.

Letters describing the proposed action and soliciting comments will be sent to appropriate Federal, State, and local agencies and to private organizations and citizens who have previously expressed or are known to have an interest in this proposed action. A public scoping meeting will be held in the project area June or July 2010. Public notices announcing the meeting will be published in the region. In addition to the public scoping meeting, public hearings will be held after the draft EIS has been prepared. The draft EIS will be available for public and agency review and comments before the public hearing.

To ensure that a full range of issues related to the proposed action are addressed and all significant issues identified, comments and suggestions are invited from all interested parties. Comments or questions concerning the proposed action and the EIS should be directed to the FHWA at the address provided above by July 30, 2010.

(Catalog of Federal and Domestic Assistance Program Number 20.205, Highway Research, Planning, and Construction. The regulations implementing Executive Order 12372 regarding intergovernmental consultation on federal programs and activities apply to this program.)

Issued on: April 26, 2010.
James C. Christian,
Division Administrator, Federal Highway Administration, Salt Lake City, Utah.

[FR Doc. 2010-10178 Filed 4-29-10; 8:45 am]

BILLING CODE 4910-22-P